DEPARTMENT OF LABOR

Office of the Secretary

Submission for OMB Review: Comment Request

October 20, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Revision of a currently approved collection.

Title: Point of Purchase Survey.

OMB Number: 1220-0044.

Type of Response: Reporting.

Frequency: Quarterly.

Affected Public: Individuals or households.

Estimated Number of Respondents: 22,627.

Annual Responses: 59,964.

Total Annual Burden Hours: 11,993.

Total Annualized capital/startup costs: $0.

Total Annual Costs (operating/maintaining systems or purchasing services): $0.

Description: The purpose of this collection is to develop and maintain a timely list of retail, wholesale, and service establishments at which people shop for specific consumer items. The information collected is used to select establishments for pricing market based items as needed for the Consumer Price Index.

Agency: Bureau of Labor Statistics.

Type of Review: Extension of a currently approved collection.

Title: Mass Layoff Statistics Program.

OMB Number: 1220-0090.

Type of Response: Reporting.

Frequency: Quarterly and Monthly.

Affected Public: Business or other for-profit and Not-for-profit institutions.

Estimated Number of Respondents: 17,052.

Annual Responses: 17,832.

Total Annual Burden Hours: 72,587.

Total Annualized capital/startup costs: $0.

Total Annual Costs (operating/maintaining systems or purchasing services): $0.

Description: Clause (iii) of section 309(2)(15)(a)(1)(A) of the Workforce Investment Act states that the Secretary of Labor shall oversee the development, maintenance, and continuous improvement of the incidence of, industrial and geographical location of, and number of workers displaced by, permanent layoffs and plant closings.

Ira L. Mills,
Departmental Clearance Officer.

[FR Doc. 05-21359 Filed 10-25-05; 8:45 am]

BILLING CODE 4510-24-P